DEPARTMENT OF TRANSPORTATION

Federal Aviation Administration

14 CFR Part 97

[Docket No. 30452; Amdt. No. 3128]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective August 12, 2005. The compliance date for each SIAP and/or Weather Takeoff Minimums is specified in the amendatory provisions.

The incorporation by reference of certain publications listed in the regulations is approved by the Director of the Federal Register as of August 12, 2005.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on July 29, 2005.
James J. Ballough,
Director, Flight Standards Service.

Adoption of the Amendment

Accordingly, pursuant to the authority delegated to me, under Title 14, Code of Federal Regulations, part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 1 September 2005

Anchorage, AK, Ted Stevens/Anchorage Intl, NDB RWY 7R, Amdt 7, CANCELLED

Aniak, AK, Aniak, NDB-A, Amdt 1, CANCELLED

Bettles, AK, Bettles, NDB-A, Amdt 8, CANCELLED

Cold Bay, AK, Cold Bay, NDB RWY 14, Amdt 11, CANCELLED

Cordova, AK, Merle K (Mudhole) Smith, NDB/DME RWY 27, Amdt 1, CANCELLED

Deadhorse, AK, Deadhorse, NDB-A, Amdt 2A, CANCELLED

Fairbanks, AK, Fairbanks Intl, NDB RWY 19R, Amdt 18, CANCELLED

Fort Yukon, AK, Fort Yukon, NDB RWY 21, Amdt 7B, CANCELLED

Gulkana, AK, Gulkana, NDB-A, Orig, CANCELLED

Gustavus, AK, Gustavus, NDB-A, Amdt 1, CANCELLED

Kenai, AK, Kenai Muni, NDB-A, Amdt 3B, CANCELLED

King Salmon, AK, King Salmon, NDB RWY 11, Amdt 2A, CANCELLED

Kotzebue, AK, Ralph Wien Memorial, NDB-A, Orig, CANCELLED

McGrath, AK, McGrath, NDB-B, Amdt 1, CANCELLED

St. George, AK, St. George, NDB/DME-A, Amdt 1, CANCELLED

St. Mary's, AK, St. Mary's, NDB RWY 16, Amdt 1, CANCELLED

St. Mary's, AK, St. Mary's, NDB/DME RWY 16, Amdt 1B, CANCELLED

St. Paul Island, AK, St. Paul Island, NDB/DME RWY 18, Amdt 2A, CANCELLED

Tanana, AK, Ralph M Calhoun Memorial, NDB-B, Amdt 3B, CANCELLED

Unalakleet, AK, Unalakleet, NDB RWY 14, Amdt 1A, CANCELLED

Yakutat, AK, Yakutat, NDB RWY 11, Amdt 3, CANCELLED

Birmingham, AL, Birmingham Intl, NDB RWY 6, Amdt 30C, CANCELLED

Birmingham, AL, Birmingham Intl, NDB RWY 24, Amdt 16B, CANCELLED

Huntsville, AL, Huntsville Intl Carl T. Jones Field, NDB RWY 18R, Amdt 13A, CANCELLED

Fort Smith, AR, Fort Smith Regional, NDB RWY 7, Amdt 8A, CANCELLED

Hot Springs, AR, Memorial Field, NDB RWY 5, Amdt 7B, CANCELLED

Searcy, AR, Searcy Muni, NDB RWY 1, Orig, CANCELLED

Searcy, AR, Searcy Muni, RNAV (GPS) RWY 1, Amdt 1

Searcy, AR, Searcy Muni, RNAV (GPS) RWY 19, Amdt 1

Stuttgart, AR, Stuttgart Muni, RNAV (GPS) RWY 9, Orig

Stuttgart, AR, Stuttgart Muni, RNAV (GPS) RWY 18, Orig

Stuttgart, AR, Stuttgart Muni, RNAV (GPS) RWY 27, Orig

Stuttgart, AR, Stuttgart Muni, RNAV (GPS) RWY 36, Orig

Stuttgart, AR, Stuttgart Muni, GPS RWY 18, Orig-A, CANCELLED

Stuttgart, AR, Stuttgart Muni, GPS RWY 36, Orig-A, CANCELLED

Walnut Ridge, AR, Walnut Ridge Regional, NDB RWY 18, Amdt 4, CANCELLED

Chandler, AZ, Chandler Muni, NDB RWY 4R, Orig-A, CANCELLED

Long Beach, CA, Long Beach (Daugherty Field), NDB RWY 30, Amdt 9C, CANCELLED

Long Beach, CA, Long Beach (Daugherty Field), RNAV (GPS) RWY 30, Amdt 1

Marysville, CA, Yuba County, NDB RWY 14, Amdt 3D, CANCELLED

Modesto, CA, Modesto City-County-Harry Sham Field, NDB RWY 28R, Amdt 9, CANCELLED

Oakland, CA, Metropolitan Oakland Intl, NDB RWY 27R, Amdt 5B, CANCELLED

Oxnard, CA, Oxnard, ILS OR LOC RWY 25, Amdt 10

Redding, CA, Redding Muni, NDB RWY 34, Amdt 5, CANCELLED

Sacramento, CA, Sacramento Intl, NDB RWY 2, Amdt 9, CANCELLED

Sacramento, CA, Sacramento Intl, NDB RWY 16L, Amdt 1A, CANCELLED

Sacramento, CA, Sacramento Intl, NDB RWY 16R, Amdt 10B, CANCELLED

Sacramento, CA, Sacramento Intl, NDB RWY 34L, Amdt 5, CANCELLED

Sacramento, CA, Sacramento Intl, NDB RWY 34R, Amdt 1, CANCELLED

Santa Ana, CA, Santa Ana-John Wayne Airport-Orange County, NDB RWY 1L, Amdt 1B, CANCELLED

Fort Collins (Loveland), CO, Fort Collins-Loveland Muni, NDB RWY 33, Amdt 4B, CANCELLED

Pueblo, CO, Pueblo Memorial, NDB RWY 8L, Amdt 19, CANCELLED

Meriden, CT, Meriden Markham Muni, NDB RWY 36, Amdt 8B, CANCELLED

Oxford, CT, Waterbury-Oxford, NDB RWY 36, Amdt 9, CANCELLED

Windsor Locks, CT, Bradley Intl, NDB RWY 6, Amdt 29, CANCELLED

Windsor Locks, CT, Bradley Intl, ILS OR LOC RWY 6, Amdt 36; ILS RWY 6 (CAT II); ILS RWY 6 (CAT III)

Windsor Locks, CT, Bradley Intl, ILS OR LOC RWY 33, Amdt 9

Windsor Locks, CT, Bradley Intl, RNAV (GPS) RWY 6, Amdt 1

Windsor Locks, CT, Bradley Intl, RNAV (GPS) Y RWY 6, Orig, CANCELLED

Windsor Locks, CT, Bradley Intl, RNAV (GPS) RWY 15, Amdt 1

Windsor Locks, CT, Bradley Intl, RNAV (GPS) RWY 24, Amdt 1

Windsor Locks, CT, Bradley Intl, RNAV (GPS) RWY 33, Amdt 1

Washington, DC, Ronald Reagan Washington National, RNAV (RNP) RWY 19, Orig

Crestview, FL, Bob Sikes, NDB RWY 17, Amdt 3, CANCELLED

Fort Lauderdale, FL, Fort Lauderdale Executive, NDB RWY 8, Amdt 8A, CANCELLED

Fort Lauderdale, FL, Fort Lauderdale Hollywood Intl, NDB RWY 13, Amdt 15, CANCELLED

Fort Myers, FL, Page Field, NDB RWY 5, Amdt 5C, CANCELLED

Gainesville, FL, Gainesville Regional, NDB RWY 28, Amdt 9A, CANCELLED

Melbourne, FL, Melbourne Intl, NDB RWY 9R, Amdt 15, CANCELLED

Miami, FL, Miami Intl, NDB RWY 27, Amdt 20A, CANCELLED

Naples, FL, Naples Muni, NDB RWY 5, Amdt 7, CANCELLED

Naples, FL, Naples Muni, NDB RWY 23, Amdt 8A, CANCELLED

Orlando, FL, Executive, NDB RWY 7, Amdt 16A, CANCELLED

Pensacola, FL, Pensacola Regional, NDB RWY 17, Orig-B, CANCELLED

St. Petersburg-Clearwater, FL, St. Petersburg-Clearwater Intl, NDB RWY 17, Amdt 20C, CANCELLED

St. Petersburg-Clearwater, FL, St. Petersburg-Clearwater Intl, RNAV (GPS) RWY 17L, Orig

St. Petersburg-Clearwater, FL, St. Petersburg-Clearwater Intl, GPS RWY 17L, Orig, CANCELLED

Americus, GA, Souther Field, NDB RWY 23, Amdt 3A, CANCELLED

Bainbridge, GA, Decatur County Industrial Air Park, NDB RWY 27, Amdt 2, CANCELLED

Brunswick, GA, Malcom McKinnon, NDB RWY 4, Amdt 1, CANCELLED

Dalton, GA, Dalton Muni, NDB RWY 14, Amdt 1, CANCELLED

Douglas, GA, Douglas Muni, NDB RWY 4, Amdt 2C, CANCELLED

Dublin, GA, W.H. “Bud” Barron, NDB RWY 2, Amdt 2A, CANCELLED

Greensboro, GA, Greene County Regional, NDB RWY 24, Amdt 1, CANCELLED

Jefferson, GA, Jackson County, NDB RWY 34, Orig-A, CANCELLED

Newnan, GA, Newnan Coweta County, NDB RWY 32, Amdt 4, CANCELLED

Savannah, GA, Savannah/Hilton Head Intl, NDB RWY 9, Amdt 22A, CANCELLED

Statesboro, GA, Statesboro Bulloch County, NDB RWY 32, Amdt 6, CANCELLED

Vidalia, GA, Vidalia Regional, NDB RWY 24, Amdt 3, CANCELLED

Waycross, GA, Waycross-Ware County, NDB RWY 18, Amdt 1, CANCELLED

Kahului, HI, Kahului, NDB RWY 20, Amdt 11A, CANCELLED

Cedar Rapids, IA, The Eastern Iowa, NDB RWY 9, Amdt 11A, CANCELLED

Clinton, IA, Clinton Muni, NDB RWY 3, Amdt 6B, CANCELLED

Estherville, IA, Estherville Muni, NDB RWY 34, Orig-B, CANCELLED

Boise, ID, Boise Air Terminal (Gowen Field), NDB RWY 10R, Amdt 27A, CANCELLED

Boise, ID, Boise Air Terminal (Gowen Field), NDB RWY 10L, Orig-A, CANCELLED

Pocatello, ID, Pocatello Regional, NDB RWY 21, Amdt 19, CANCELLED

Chicago, IL, Chicago Midway Intl, RNAV (GPS) RWY 4R, Amdt 1

Chicago, IL, Chicago O'Hare Intl, NDB RWY 9R, Amdt 17, CANCELLED

Chicago, IL, Chicago O'Hare Intl, NDB RWY 14L, Amdt 23, CANCELLED

Chicago, IL, Chicago O'Hare Intl, NDB RWY 14R, Amdt 22, CANCELLED

Pinckneyville, IL, Pinckneyville-Du Quoin, RNAV (GPS) RWY 18, Orig

Pinckneyville, IL, Pinckneyville-Du Quoin, RNAV (GPS) RWY 36, Orig

Rochester, IN, Fulton County, NDB RWY 29, Amdt 12, CANCELLED

Newton, KS, Newton-City County, NDB RWY 17, Amdt 4, CANCELLED

Flemingsburg, KY, Fleming-Mason, NDB RWY 25, Orig-A, CANCELLED

Louisville, KY, Louisville Intl-Standiford Field, NDB RWY 29, Amdt 19B, CANCELLED

Baton Rouge, LA, Baton Rouge Metropolitan Ryan Field, RNAV (GPS) RWY 4L, Amdt 1

Baton Rouge, LA, Baton Rouge Metropolitan Ryan Field, RNAV (GPS) RWY 22R, Amdt 1

Baton Rouge, LA, Baton Rouge Metropolitan Ryan Field, RNAV (GPS) RWY 31, Amdt 1

Lake Charles, LA, Lake Charles Regional, NDB RWY 15, Amdt 19, CANCELLED

Monroe, LA, Monroe Regional, NDB RWY 4, Amdt 14C, CANCELLED

Fitchburg, MA, Fitchburg Muni, NDB-A, Amdt 4

Fitchburg, MA, Fitchburg Muni, NDB RWY 20, Amdt 6

Fitchburg, MA, Fitchburg Muni, RNAV (GPS) RWY 14, Orig

Fitchburg, MA, Fitchburg Muni, RNAV (GPS) RWY 20, Orig

Fitchburg, MA, Fitchburg Muni, RNAV (GPS) RWY 32, Orig

Fitchburg, MA, Fitchburg Muni, GPS RWY 14, Orig, CANCELLED

Fitchburg, MA, Fitchburg Muni, GPS RWY 20, Orig, CANCELLED

Fitchburg, MA, Fitchburg Muni, GPS RWY 32, Orig, CANCELLED

Fitchburg, MA, Fitchburg Muni, Takeoff Minimums and Textual DP, Amdt 5

Worcester, MA, Worcester Regional, NDB RWY 29, Orig-A, CANCELLED

Ocean City, MD, Ocean City Muni, RNAV (GPS) RWY 2, Orig

Flint, MI, Bishop International, NDB RWY 9, Amdt 25, CANCELLED

Muskegon, MI, Muskegon County, NDB RWY 32, Amdt 12, CANCELLED

Rogers City, MI, Presque Isle County, NDB RWY 27, Amdt 3

Rogers City, MI, Presque Isle County, RNAV (GPS) RWY 9, Orig

Rogers City, MI, Presque Isle County, RNAV (GPS) RWY 27, Orig

Bemidji, MN, Bemidji-Beltrami County, NDB RWY 31, Amdt 5B, CANCELLED

Minneapolis, MN, Minneapolis-St Paul Intl/Wold-Chamberlain, NDB RWY 4, Amdt 20A, CANCELLED

Minneapolis, MN, Minneapolis-St Paul Intl/Wold-Chamberlain, NDB RWY 30R, Amdt 12A, CANCELLED

Minneapolis, MN, Minneapolis-St Paul Intl/Wold-Chamberlain, NDB RWY 30L, Amdt 24A, CANCELLED

St. Cloud, MN, St. Cloud Regional, NDB RWY 31, Amdt 3, CANCELLED

Jefferson City, MO, Jefferson City Memorial, NDB RWY 30, Orig A, CANCELLED

Joplin, MO, Joplin Regional, NDB RWY 13 Amdt 24, CANCELLED

Greenville, MS, Mid Delta Regional, NDB RWY 36L, Amdt 5A, CANCELLED

Greenville, MS, Mid Delta Regional, NDB RWY 36R, Amdt 8, CANCELLED

Greenwood, MS, Greenwood-LeFlore, NDB RWY 18, Amdt 1A, CANCELLED

Gulfport, MS, Gulfport-Biloxi Intl, NDB RWY 14, Amdt 12, CANCELLED

Jackson, MS, Hawkins Field, NDB RWY 16, Amdt 5A, CANCELLED

Olive Branch, MS, Olive Branch, NDB RWY 18, Amdt 5, CANCELLED

Olive Branch, MS, Olive Branch, NDB RWY 36, Amdt 6, CANCELLED

Greenville, NC, Pitt-Greenville, NDB RWY 20, Amdt 15, CANCELLED

Hickory, NC, Hickory Regional, NDB RWY 24, Amdt 5A, CANCELLED

Kinston, NC, Kinston Regional Jetport at Stallings Fld, NDB RWY 5, Amdt 11, CANCELLED

Lumberton, NC, Lumberton Muni, NDB RWY 5, Amdt 1C, CANCELLED

Lumberton, NC, Lumberton Muni, NDB RWY 13, Amdt 8B, CANCELLED

Monroe, NC, Monroe Regional, NDB RWY 5, Amdt 3, CANCELLED

Raleigh-Durham, NC, Raleigh-Durham Intl, NDB RWY 5R, Amdt 20C, CANCELLED

Rutherfordton, NC, Rutherford Co-Marchman Field, NDB RWY 1, Amdt 5, CANCELLED

Shelby, NC, Shelby Muni, NDB RWY 5, Orig, CANCELLED

Wilmington, NC, Wilmington Intl, NDB RWY 35, Amdt 17, CANCELLED

Winston Salem, NC, Smith Reynolds, NDB RWY 33, Amdt 25B, CANCELLED

Devils Lake, ND, Devils Lake Muni, NDB RWY 31, Amdt 1, CANCELLED

Dickinson, ND, Dickinson-Theodore Roosevelt Regional, NDB RWY 32, Amdt 1, CANCELLED

Dickinson, ND, Dickinson-Theodore Roosevelt Regional, Takeoff Minimums and Textual DP, Amdt 1

Fargo, ND, Hector Intl, NDB RWY 18, Orig, CANCELLED

Alliance, NE, Alliance Muni, NDB RWY 30, Orig, CANCELLED

Chadron NE, Chadron Muni, RNAV (GPS) RWY 2, Orig

Chadron NE, Chadron Muni, RNAV (GPS) RWY 20, Orig

Chadron NE, Chadron Muni, GPS RWY 2, Orig-A, CANCELLED

Chadron NE, Chadron Muni, GPS RWY 20, Orig, CANCELLED

Fremont, NE, Fremont Muni, NDB RWY 13, Amdt 3A, CANCELLED

Grand Island, NE, Central Nebraska Regional, NDB RWY 35, Amdt 8, CANCELLED

Hastings, NE, Hastings Muni, NDB RWY 14, Amdt 12D, CANCELLED

Lexington, NE, Jim Kelly Field, NDB RWY 14, Amdt 3, CANCELLED

Lincoln, NE, Lincoln, NDB RWY 36, Amdt 8D

Lincoln, NE, Lincoln, VOR RWY 18, Amdt 12

Lincoln, NE, Lincoln, RNAV (GPS) RWY 18, Orig

Lincoln, NE, Lincoln, RNAV (GPS) RWY 36, Orig

North Platte, NE, North Platte Regional Airport Lee Bird Field, NDB RWY 30, Amdt 3B, CANCELLED

Concord, NH, Concord Muni, NDB RWY 35, Amdt 6, CANCELLED

Whitfield, NH, Mount Washington Regional, NDB RWY 10, Amdt 8, CANCELLED

Atlantic City, NJ, Atlantic City International, RNAV (GPS) RWY 4, Amdt 1

Atlantic City, NJ, Atlantic City International, RNAV (GPS) RWY 13, Amdt 2

Atlantic City, NJ, Atlantic City International, RNAV (GPS) RWY 22, Amdt 2

Atlantic City, NJ, Atlantic City International, RNAV (GPS) RWY 31, Amdt 1

Roswell, NM, Roswell International Air Center, NDB RWY 21, Amdt 16A, CANCELLED

Santa Fe, NM, Santa Fe Muni, NDB RWY 2, Amdt 4A, CANCELLED

Buffalo, NY, Buffalo Niagara Intl, NDB RWY 23, Amdt 15B, CANCELLED

Newburgh, NY, Stewart Intl, NDB RWY 9, Amdt 8B, CANCELLED

Utica, NY, Oneida County, NDB RWY 33, Amdt 12A, CANCELLED

Westhampton Beach, NY, The Francis S. Gabreski, NDB RWY 24, Amdt 3D, CANCELLED

Clinton, OK, Clinton Sherman, NDB RWY 17R, Amdt 10A, CANCELLED

Durant, OK, Eaker Field, NDB RWY 35, Amdt 6, CANCELLED

Muskogee, OK, Muskogee/Davis Field, NDB RWY 31, Amdt 10, CANCELLED

Oklahoma City, OK, Will Rogers World, NDB RWY 17R, Amdt 24C, CANCELLED

Okmulgee, OK, Okmulgee Regional, NDB RWY 17, Amdt 4, CANCELLED

Tulsa, OK, Tulsa Intl, NDB RWY 18L, Amdt 10B, CANCELLED

Tulsa, OK, Tulsa Intl, NDB RWY 36R, Amdt 19F, CANCELLED

Eugene, OR, Mahlon Sweet Field, NDB RWY 16, Amdt 29C, CANCELLED

Newport, OR, Newport Muni, NDB RWY 16, Amdt 1, CANCELLED

Salem, OR, McNary Field, NDB RWY 31, Amdt 18E, CANCELLED

Allentown, PA, Lehigh Valley International, NDB RWY 6, Amdt 18, CANCELLED

Pittsburgh, PA, Allegheny County, NDB RWY 28, Amdt 23, CANCELLED

Pittsburgh, PA, Allegheny County, RNAV (GPS) RWY 10, Amdt 3

Pittsburgh, PA, Allegheny County, RNAV (GPS) Y RWY 10, Orig-A, CANCELLED

Pittsburgh, PA, Allegheny County, RNAV (GPS) RWY 28, Amdt 3

Providence, RI, Theodore Francis Green State, ILS OR LOC RWY 5, Amdt 19; ILS RWY 5

(CAT II), Amdt 19; ILS RWY 5 (CAT III), Amdt 19

Charleston, SC, Charleston Executive, NDB RWY 9, Amdt 7A, CANCELLED

Florence, SC, Florence Regional, NDB RWY 9, Amdt 10, CANCELLED

Columbia/Mount Pleasant, TN, Maury County, NDB RWY 24, Amdt 3C, CANCELLED

Jackson, TN, McKeller-Sipes Regional, NDB RWY 2, Amdt 6, CANCELLED

Savannah, TN, Savannah-Hardin County, NDB RWY 19, Orig, CANCELLED

Anahuac, TX, Chambers County, NDB RWY 12, Amdt 2, CANCELLED

Angleton/Lake Jackson, TX, Brazoria County, NDB RWY 17, Amdt 3, CANCELLED

Bonham, TX, Jones Field, NDB RWY 17, Amdt 4, CANCELLED

Brenham, TX, Brenham Muni, NDB RWY 16, Amdt 5B, CANCELLED

Castroville, TX, Castroville Muni, RNAV (GPS) RWY 15, Orig

College Station, TX, Easterwood Field, LOC BC RWY 16, Amdt 7

College Station, TX, Easterwood Field, ILS OR LOC RWY 34, Amdt 13

Houston, TX, David Wayne Hooks Memorial NDB RWY 17R, Amdt 11, CANCELLED

Houston, TX, Houston-Southwest, NDB RWY 27, Amdt 4, CANCELLED

Houston, TX, Sugar Land Regional, NDB RWY 17, Amdt 9A, CANCELLED

Laredo, TX, Laredo Intl, LOC/DME BC RWY 35L, Amdt 2

Laredo, TX, Laredo Intl, ILS OR LOC/DME RWY 17R, Amdt 10

Lubbock, TX, Lubbock Preston Smith Intl, RNAV (GPS) RWY 8, Amdt 1

Lubbock, TX, Lubbock Preston Smith Intl, RNAV (GPS) RWY 17R, Amdt 1

Lubbock, TX, Lubbock Preston Smith Intl, RNAV (GPS) RWY 26, Amdt 1

Lubbock, TX, Lubbock Preston Smith Intl, RNAV (GPS) RWY 35L, Amdt 1

Tyler, TX, Tyler Pounds Regional, NDB RWY 13, Amdt 18, CANCELLED

Salt Lake City, UT, Salt Lake City Muni 2, RNAV (GPS) RWY 34, Amdt 1, CANCELLED

Salt Lake City, UT, Salt Lake City Muni 2, RNAV (GPS) Y RWY 34, Orig

Salt Lake City, UT, Salt Lake City Muni 2, RNAV (GPS) Z RWY 34, Orig

Charlottesville, VA, Charlottesville-Albemarle, NDB RWY 3, Amdt 16, CANCELLED

Norfolk, VA, Chesapeake Regional, NDB RWY 5, Orig, CANCELLED

South Hill, VA, Mecklenburg-Brunswick Regional, NDB RWY 1, Orig, CANCELLED

Suffolk, VA, Suffolk Executive, NDB RWY 4, Amdt 1B, CANCELLED

Everett, WA, Snohomish County (Paine Field), NDB RWY 16R, Amdt 12C, CANCELLED

Seattle, WA, Seattle Tacoma Intl, NDB RWY 16R, Amdt 1C, CANCELLED

Seattle, WA, Seattle Tacoma Intl, NDB RWY 34R, Amdt 8A, CANCELLED

Spokane, WA, Spokane Intl, NDB RWY 21, Amdt 14C, CANCELLED

Hayward, WI, Sawyer County, NDB RWY 20, Amdt 13, CANCELLED

Milwaukee, WI, General Mitchell Intl, NDB RWY 1L, Amdt 4B, CANCELLED

Milwaukee, WI, General Mitchell Intl, NDB RWY 7R, Amdt 10D, CANCELLED

Rice Lake, WI, Rice Lake Regional-Carl's Field, RNAV (GPS) RWY 1, Amdt 1

Shell Lake, WI, Shell Lake Muni, NDB RWY 32, Amdt 1, CANCELLED

Lewisburg, WV, Greenbrier Valley, NDB RWY 4, Amdt 6A, CANCELLED

Gillette, WY, Gillette-Campbell County, NDB RWY 34, Orig-C, CANCELLED

The FAA published an Amendment in Docket No. 30450, Amdt No. 3126 to Part 97 of the Federal Aviation Regulations (Vol. 70, FR No. 131, pages 39652-39653; dated July 11, 2005) under section 97.15 effective for 27 Oct 2005 which is hereby corrected as follows:

Yuma, AZ, Yuma MCAS-Yuma Intl, Takeoff Minimums and Textual DP, Amdt 2, CANCELLED

The FAA published an Amendment in Docket No. 30447, Amdt No. 3124 to Part 97 of the Federal Aviation Regulations (Vol. 70, FR No. 115, page 34992, dated June 16, 2005) Under section 97.15 effective for 7 Jul 2005 which the cancellation is hereby rescinded:

Raleigh-Durham, NC, Raleigh-Durham Intl, NDB RWY 23L, Amdt 5, CANCELLED (TL-05-14)

[FR Doc. 05-15653 Filed 8-11-05; 8:45 am]

BILLING CODE 4910-13-U